DEPARTMENT OF AGRICULTURE

Agricultural Marketing Service

[Docket Number FV-04-311]

United States Standards for Grades of Kale

AGENCY: Agricultural Marketing Service, USDA.

ACTION: Notice.

SUMMARY: The Agricultural Marketing Service (AMS), prior to undertaking research and other work associated with revising official grade standards, is soliciting comments on the possible revisions to the United States Standards for Grades of Kale. At a 2003 meeting with the Fruit and Vegetable Industry Advisory Committee, AMS was asked to review all the fresh fruit and vegetable grade standards for usefulness in serving the industry. As a result, AMS has identified that the current standard may need to be modified to allow that percentages are determined by count and not weight. Additionally, AMS is seeking comments regarding any other revisions that may be necessary to better serve the industry.

DATES: Comments must be received by November 30, 2004.

ADDRESSES: Interested persons are invited to submit written comments to the Standardization Section, Fresh Products Branch, Fruit and Vegetable Programs, Agricultural Marketing Service, U.S. Department of Agriculture, 1400 Independence Ave. SW., Room 1661 South Building, Stop 0240, Washington, DC 20250-0240; Fax (202) 720-8871, e-mail FPB.DocketClerk@usda.gov. Comments should make reference to the dates and page number of this issue of the Federal Register and will be made available for public inspection in the above office during regular business hours. The United States Standards for Grades of Kale are available either through the address cited above or by accessing the Fresh Products Branch Web site at http://www.ams.usda.gov/standards/stanfrfv.htm.

FOR FURTHER INFORMATION CONTACT: David L. Priester, at the above address or call (202) 720-2185; e-mail David.Priester@usda.gov.

SUPPLEMENTARY INFORMATION:

Background

At a 2003 meeting with the Fruit and Vegetable Industry Advisory Committee, AMS was asked to review all the fresh fruit and vegetable grade standards for usefulness in serving the industry. AMS has identified the United States Standards for Grades of Kale for a possible revision. These standards were last revised in 1934. As a result, AMS has identified that industry marketing practices indicate the need to modify the current standards to allow the percentages to be determined by count and not weight. However, prior to undertaking detailed work to develop proposed revisions to the standards, AMS is soliciting comments on the possible revision to the standards and the probable impact on distributors, processors, and growers. Additionally, AMS is seeking comments regarding any other revisions that may be necessary to better serve the industry.

This notice provides for a 60-day comment period for interested parties to comment on changes to the standards. Should AMS conclude that there is a need for the revisions of the standards, the proposed revisions will be published in the Federal Register with a request for comments in accordance with 7 CFR Part 36.

Authority: 7 U.S.C. 1621-1627.

Dated: September 28, 2004.
A. J. Yates,
Administrator, Agricultural Marketing Service.

[FR Doc. 04-22058 Filed 9-30-04; 8:45 am]

BILLING CODE 3410-02-P